DEPARTMENT OF STATE

[Public Notice: 11346]

Notice of Receipt of Request From the Government of the Republic of Albania Under Article 9 of the 1970 UNESCO Convention on the Means of Prohibiting and Preventing the Illicit Import, Export and Transfer of Ownership of Cultural Property

AGENCY: Department of State.

ACTION: Notice.

SUMMARY: Notice of receipt of request from Albania for cultural property protection.

FOR FURTHER INFORMATION CONTACT: Chelsea Freeland, Cultural Heritage Center, Bureau of Educational and Cultural Affairs: 202-632-6301; culprop@state.gov; include “Albania” in the subject line.

SUPPLEMENTARY INFORMATION: The Government of the Republic of Albania made a request to the Government of the United States on November 9, 2020, under Article 9 of the 1970 UNESCO Convention on the Means of Prohibiting and Preventing the Illicit Import, Export and Transfer of Ownership of Cultural Property. Albania's request seeks U.S. import restrictions on archaeological and ethnological material representing Albania's cultural patrimony. Pursuant to the authority vested in the Assistant Secretary of State for Educational and Cultural Affairs, and pursuant to 19 U.S.C. 2602(f)(1), notification of the request is hereby published. A public summary of Albania's request and information about U.S. implementation of the 1970 UNESCO Convention will be available at the Cultural Heritage Center website: http://culturalheritage.state.gov.

Allison R. Davis,
Executive Director CPAC, Bureau of Educational and Cultural Affairs, Department of State.

[FR Doc. 2021-02368 Filed 2-4-21; 8:45 am]

BILLING CODE 4710-05-P